DEPARTMENT OF COMMERCE

National Oceanic and Atmospheric Administration

RIN 0648-XS35

Marine Mammals; File No. 14450

AGENCY: National Marine Fisheries Service (NMFS), National Oceanic and Atmospheric Administration (NOAA), Commerce.

ACTION: Notice; receipt of application for permit amendment.

SUMMARY: Notice is hereby given that the National Marine Fisheries Service's Southeast Fisheries Science Center (SEFSC), 75 Virginia Beach Drive, Miami, FL 33149 [Principal Investigator: Dr. Keith Mullin], has applied for an amendment to Scientific Research Permit No. 14450.

DATES: Written, telefaxed, or email comments must be received on or before April 14, 2014.

ADDRESSES: The application and related documents are available for review by selecting “Records Open for Public Comment” from the Features box on the Applications and Permits for Protected Species home page, https://apps.nmfs.noaa.gov, and then selecting File No. 14450-01 from the list of available applications.

These documents are also available upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Kristy Beard, (301) 427-8401.

SUPPLEMENTARY INFORMATION: The subject amendment to Permit No. 14450 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 14450, issued on March 4, 2014 (79 FR 13042), authorizes the permit holder to take all cetacean species that occur in U.S. and international waters of the Atlantic Ocean, Gulf of Mexico and Caribbean Sea by harassment during aerial and vessel-based line-transect sampling, acoustic sampling, behavioral observations, and vessel-based photo-identification and biopsy sampling. Tissue samples collected in other countries may be imported into the U.S. The permit is valid for five years from the date of issuance.

The permit holder is requesting the permit be amended to include authorization for takes by harassment during satellite tagging to support NMFS stock assessment research on ESA-listed large whales that occur in U.S. and international waters of the western North Atlantic. Up to four attempts would be made to attach a tag to an animal. Directed satellite tagging efforts would be conducted to tag 20 sperm whales and 5 North Atlantic right whales. Opportunistic tagging would occur of 10 fin, 5 blue, 5 sei, and 10 humpback whales when encountered during other SEFSC assessment surveys. Only adults would be tagged. The expiration date of the permit would not change.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: March 10, 2014.
Donna S. Wieting,
Director, Office of Protected Resources, National Marine Fisheries Service.

[FR Doc. 2014-05577 Filed 3-13-14; 8:45 am]

BILLING CODE 3510-22-P